DEPARTMENT OF ENERGY

Federal Energy Regulatory Commission

[Docket No. CP02-77-000]

Dominion Transmission, Inc.; Notice of Application

February 14, 2002.

Take notice that on January 30, 2002, Dominion Transmission, Inc. (DTI), 445 West Main Street, Clarksburg, WVA, 26301, tendered for filing an abbreviated application for a certificate of public convenience and necessity pursuant to section 7(b) of the Natural Gas Act (NGA) to abandon certain X-Rate Schedules in DTI's FERC Gas Tariff, First Revised Volume No. 2, all as more fully set forth in the application, which is on file and open to public inspection. The application may be viewed on the Web at www.ferc.gov using the “RIMS” link, select “Docket #” from the RIMS menu and follow the instructions (call (202) 208-2222 for assistance).

DTI asserts that no abandonment of any facility is proposed. DTI proposes to abandon ten service agreements under its FERC Gas Tariff, First Revised Volume No. 2. The information in the table below summarizes each individual service agreement:

X-rate schedule number | Customer name | Docket number of original certificate authorization | Type of service rendered and date terminated
X-20 | Brooklyn Union Gas Company | CP76-265-000 | Transportation Agreement terminated July 1, 1995.
X-21 | Brooklyn Union Gas Company and Transcontinental Gas Pipe Line Corporation | CP76-265-000 | Transportation and Exchange will terminate effective date of abandonment Order.
X-23 | Pittsburgh Tube Company | CP76-260-000 | Transportation Agreement expired after primary term of 15 years.
X-29 | Transcontinental Gas Pipe Line Corporation | CP80-44-000 | Transportation Agreement ended November 1, 1982.
X-43 | Texas Eastern Transmission Corporation | CP83-386-000 | Storage Agreement ended April 15, 1986.
X-73 | Kamine/Besicorp South Glens Falls, L.P | CP89-638-000 | Transportation Agreement ended June 30, 1998.
X-75 | Sterling Power Partners, L.P | CP89-638-000 | Transportation Agreement ended June 30, 1998.
X-80 | Indeck-Osewgo Limited Partnership | CP89-712-000 | Transportation Agreement ended June 30, 1998
X-100 | Seneca Power Partners, L.P | CP91-2989-000 | Transportation Agreement ended June 30, 1998.
X-102 | Indeck-Ilion Limited Partnership | CP89-638-005 and CP89-638-007 | Transportation Agreement ended June 30, 1998.

Any question regarding this application may be directed to Mr. William P. Saviers, Esquire, Dominion Transmission, Inc., 445 West Main Street, Clarksburg, West Virginia, 26301, at (304) 627-3340.

Any person desiring to be heard or to protest this filing should file a motion to intervene or protest with the Federal Energy Regulatory Commission, 888 First Street, NE, Washington, DC 20426, on or before March 7, 2002, in accordance with Sections 385.214 and 385.211 of the Commission's Rules and Regulations. Protests will be considered by the Commission in determining the appropriate action to be taken, but will not serve to make Protestants parties to the proceeding. Any person wishing to become a party must file a motion to intervene. Copies of this filing are on file with the Commission and are available for public inspection in the Public reference Room.

Comments, protests, and interventions may be filed electronically via the Internet in lieu of paper. See 18 CFR 385.2001(a)(1)(iii) and the instructions on the Commission's Web site under the “e-filing” link.

Take notice that, pursuant to the authority contained in and subject to the jurisdiction conferred upon the Commission by sections 7 and 15 of the Natural Gas Act and the Commission's Rules of Practice and Procedure, a hearing will be held without further notice before the Commission on this application if no protest or motion to intervene is filed within the time required herein. At that time, the Commission, on its own review of matter, will determine whether granting the abandonment is required by the public convenience and necessity. If a petition for leave to intervene is timely filed, or if the Commission on its own motion believes that a formal hearing is required, further notice of such hearing will be duly given.

Under the procedure herein provided for, unless otherwise advised, it will be unnecessary for DTI to appear or be represented at the hearing.

Linwood A. Watson, Jr.,
Deputy Secretary.

[FR Doc. 02-4248 Filed 2-21-02; 8:45 am]

BILLING CODE 6717-01-P